DEPARTMENT OF TRANSPORTATION

National Highway Traffic Safety Administration

49 CFR Part 593

[Docket No. NHTSA-2010-0125]

List of Nonconforming Vehicles Decided To Be Eligible for Importation

AGENCY: National Highway Traffic Safety Administration (NHTSA), DOT.

ACTION: Final rule.

SUMMARY: This document revises the list of vehicles not originally manufactured to conform to the Federal Motor Vehicle Safety Standards (FMVSS) that NHTSA has decided to be eligible for importation. This list is published in an appendix to the agency's regulations that prescribe procedures for import eligibility decisions. The list has been revised to add all vehicles that NHTSA has decided to be eligible for importation since October 1, 2009, and to remove all previously listed vehicles that are now more than 25 years old and need no longer comply with all applicable FMVSS to be lawfully imported. NHTSA is required by statute to publish this list annually in the Federal Register.

DATES: The revised list of import eligible vehicles is effective on September 21, 2010.

FOR FURTHER INFORMATION CONTACT: Coleman Sachs, Office of Vehicle Safety Compliance, NHTSA, (202) 366-3151.

SUPPLEMENTARY INFORMATION: Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS. Where there is no substantially similar U.S.-certified motor vehicle, 49 U.S.C. 30141(a)(1)(B) permits a nonconforming motor vehicle to be admitted into the United States if its safety features comply with, or are capable of being altered to comply with, all applicable FMVSS based on destructive test data or such other evidence as the Secretary of Transportation decides to be adequate.

Under 49 U.S.C. 30141(a)(1), import eligibility decisions may be made “on the initiative of the Secretary of Transportation or on petition of a manufacturer or importer registered under [49 U.S.C. 30141(c)].” The Secretary's authority to make these decisions has been delegated to NHTSA. The agency publishes notices of eligibility decisions as they are made.

Under 49 U.S.C. 30141(b)(2), a list of all vehicles for which import eligibility decisions have been made must be published annually in the Federal Register. On October 1, 1996, NHTSA added the list as an appendix to 49 CFR part 593, the regulations that establish procedures for import eligibility decisions (61 FR 51242). As described in the notice, NHTSA took that action to ensure that the list is more widely disseminated to government personnel who oversee vehicle imports and to interested members of the public. See 61 FR 51242-43. In the notice, NHTSA expressed its intention to annually revise the list as published in the appendix to include any additional vehicles decided by the agency to be eligible for importation since the list was last published. See 61 FR 51243. The agency stated that issuance of the document announcing these revisions will fulfill the annual publication requirements of 49 U.S.C. 30141(b)(2). Ibid.

Regulatory Analyses and Notices

A. Executive Order 12866, Regulatory Planning and Review

Executive Order 12866, “Regulatory Planning and Review” (58 FR 51735, October 4, 1993), provides for making determinations about whether a regulatory action is “significant” and therefore subject to Office of Management and Budget (OMB) review and to the requirements of the Executive Order. The Executive Order defines a “significant regulatory action” as one that is likely to result in a rule that may:

(1) Have an annual effect on the economy of $100 million or more or adversely affects in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order. This rule will not have any of these effects and was not reviewed under Executive Order 12866. It is not significant within the meaning of the DOT Regulatory Policies and Procedures. The effect of this rule is not to impose new requirements. Instead it provides a summary compilation of decisions on import eligibility that have already been made and does not involve new decisions. This rule will not impose any additional burden on any person. Accordingly, the agency believes that the preparation of a regulatory evaluation is not warranted for this rule.

B. Environmental Impacts

We have not conducted an evaluation of the impacts of this rule under the National Environmental Policy Act. This rule does not impose any change that would result in any impacts to the quality of the human environment. Accordingly, no environmental assessment is required.

C. Regulatory Flexibility Act

Pursuant to the Regulatory Flexibility Act, we have considered the impacts of this rule on small entities (5 U.S.C. 601 et seq.). I certify that this rule will not have a significant economic impact upon a substantial number of small entities within the context of the Regulatory Flexibility Act. The following is our statement providing the factual basis for the certification (5 U.S.C. 605(b)). This rule will not have any significant economic impact on a substantial number of small businesses because the rule merely furnishes information by revising the list in the Code of Federal Regulations of vehicles for which import eligibility decisions have previously been made. Accordingly, we have not prepared a Final Regulatory Flexibility Analysis.

D. Executive Order 13132, Federalism

Executive Order 13132 requires NHTSA to develop an accountable process to ensure “meaningful and timely input by State and local officials in the development of regulatory policies that have federalism implications.” Executive Order 13132 defines the term “Policies that have federalism implications” to include regulations that have “substantial direct effects on the States, on the relationship between the national government and the States, or on the distribution of power and responsibilities among the various levels of government.” Under Executive Order 13132, NHTSA may not issue a regulation that has federalism implications, that imposes substantial direct compliance costs, and that is not required by statute, unless the Federal government provides the funds necessary to pay the direct compliance costs incurred by State and local governments, or NHTSA consults with State and local officials early in the process of developing the regulation.

This rule will have no direct effect on the States, on the relationship between the national government and the States, or on the distribution of power and responsibilities among the various levels of government as specified in Executive Order 13132. Thus, the requirements of section 6 of the Executive Order do not apply to this rule.

E. The Unfunded Mandates Reform Act

The Unfunded Mandates Reform Act of 1995 (Pub. L. 104-4) requires agencies to prepare a written assessment of the costs, benefits and other effects of proposed or final rules that include a Federal mandate likely to result in the expenditure by State, local or tribal governments, in the aggregate, or by the private sector, of more than $100 million annually. This rule will not result in additional expenditures by State, local or tribal governments or by any members of the private sector. Therefore, the agency has not prepared an economic assessment pursuant to the Unfunded Mandates Reform Act.

F. Paperwork Reduction Act

Under the Paperwork Reduction Act of 1995 (44 U.S.C. 3501 et seq.), a person is not required to respond to a collection of information by a Federal agency unless the collection displays a valid OMB control number. This rule does not impose any new collection of information requirements for which a 5 CFR part 1320 clearance must be obtained. DOT previously submitted to OMB and OMB approved the collection of information associated with the vehicle importation program in OMB Clearance No. 2127-0002.

G. Civil Justice Reform

Pursuant to Executive Order 12988, “Civil Justice Reform,” we have considered whether this rule has any retroactive effect. We conclude that it will not have such an effect.

H. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

If you wish to do so, please comment on the extent to which this final rule effectively uses plain language principles.

I. National Technology Transfer and Advancement Act

Under the National Technology and Transfer and Advancement Act of 1995 (Pub. L. 104-113), “all Federal agencies and departments shall use technical standards that are developed or adopted by voluntary consensus standards bodies, using such technical standards as a means to carry out policy objectives or activities determined by the agencies and departments.” This rule does not require the use of any technical standards.

J. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

K. Executive Order 13045, Economically Significant Rules Disproportionately Affecting Children

This rule is not subject to Executive Order 13045 because it is not “economically significant” as defined under Executive Order 12866, and does not concern an environmental, health, or safety risk that NHTSA has reason to believe may have a disproportionate effect on children.

L. Notice and Comment

NHTSA finds that prior notice and opportunity for comment are unnecessary under 5 U.S.C. 553(b)(3)(B) because this action does not impose any regulatory requirements. This rule merely revises the list of vehicles not originally manufactured to conform to the FMVSS that NHTSA has decided to be eligible for importation into the United States since the last list was published in September, 2009.

In addition, so that the list of vehicles for which import eligibility decisions have been made may be included in the next edition of 49 CFR parts 572 to 599, which is due for revision on October 1, 2010, good cause exists to dispense with the requirement in 5 U.S.C. 553(d) for the effective date of the rule to be delayed for at least 30 days following its publication.

List of Subjects in 49 CFR Part 593

Imports, Motor vehicle safety, Motor vehicles.

In consideration of the foregoing, part 593 of title 49 of the Code of Federal Regulations, Determinations that a vehicle not originally manufactured to conform to the Federal motor vehicle safety standards is eligible for importation, is amended as follows:

PART 593—[AMENDED]

1. The authority citation for part 593 continues to read as follows:

Authority: 49 U.S.C. 322 and 30141(b); delegation of authority at 49 CFR 1.50.

2. Appendix A to part 593 is revised to read as follows:

Appendix A to Part 593—List of Vehicles Determined To Be Eligible for Importation

(a) Each vehicle on the following list is preceded by a vehicle eligibility number. The importer of a vehicle admissible under any eligibility decision must enter that number on the HS-7 Declaration Form accompanying entry to indicate that the vehicle is eligible for importation.

(1) “VSA” eligibility numbers are assigned to all vehicles that are decided to be eligible for importation on the initiative of the Administrator under § 593.8.

(2) “VSP” eligibility numbers are assigned to vehicles that are decided to be eligible under § 593.7(f), based on a petition from a manufacturer or registered importer submitted under § 593.5(a)(1), which establishes that a substantially similar U.S.-certified vehicle exists.

(3) “VCP” eligibility numbers are assigned to vehicles that are decided to be eligible under § 593.7(f), based on a petition from a manufacturer or registered importer submitted under § 593.5(a)(2), which establishes that the vehicle has safety features that comply with, or are capable of being altered to comply with, all applicable FMVSS.

(b) Vehicles for which eligibility decisions have been made are listed alphabetically, first by make and then by model.

(c) All hyphens used in the Model Year column mean “through” (for example, “1988-1990” means “1988 through 1990”).

(d) The initials “MC” used in the Make column mean “Motorcycle.”

(e) The initials “SWB” used in the Model Type column mean “Short Wheel Base.”

(f) The initials “LWB” used in the Model Type column mean “Long Wheel Base.”

(g) For vehicles with a European country of origin, the term “Model Year” ordinarily means calendar year in which the vehicle was produced.

(h) All vehicles are left-hand-drive (LHD) vehicles unless noted as RHD. The initials “RHD” used in the Model Type column mean “Right-Hand-Drive.”

Vehicles Certified by Their Original Manufacturer as Complying With All Applicable Canadian Motor Vehicle Safety Standards
VSA-80 | (a) All passenger cars less than 25 years old that were manufactured before September 1, 1989;
| (b) All passenger cars manufactured on or after September 1, 1989, and before September 1, 1996, that, as originally manufactured, are equipped with an automatic restraint system that complies with Federal Motor Vehicle Safety Standard (FMVSS) No. 208;
| (c) All passenger cars manufactured on or after September 1, 1996, and before September 1, 2002, that, as originally manufactured, are equipped with an automatic restraint system that complies with FMVSS No. 208, and that comply with FMVSS No. 214;
| (d) All passenger cars manufactured on or after September 1, 2002, and before September 1, 2007, that, as originally manufactured, are equipped with an automatic restraint system that complies with FMVSS No. 208, and that comply with FMVSS Nos. 201, 214, 225, and 401;
| (e) All passenger cars manufactured on or after September 1, 2007, and before September 1, 2008, that, as originally manufactured, comply with FMVSS Nos. 110, 118, 138, 201, 208, 213, 214, 225, and 401;
| (f) All passenger cars manufactured on or after September 1, 2008 and before September 1, 2011 that, as originally manufactured, comply with FMVSS Nos. 110, 118, 138, 201, 202a, 206, 208, 213, 214, 225, and 401;
| (g) All passenger cars manufactured on or after September 1, 2011 and before September 1, 2012 that, as originally manufactured, comply with FMVSS Nos. 110, 118, 126, 138, 201, 202a, 206, 208, 213, 214, 225, and 401.
VSA-81 | (a) All multipurpose passenger vehicles, trucks, and buses with a GVWR of 4,536 kg (10,000 lb) or less that are less than 25 years old and that were manufactured before September 1, 1991;
| (b) All multipurpose passenger vehicles, trucks, and buses with a GVWR of 4,536 kg (10,000 lb) or less that were manufactured on and after September 1, 1991, and before September 1, 1993 and that, as originally manufactured, comply with FMVSS Nos. 202 and 208;
VSA-81 | (c) All multipurpose passenger vehicles, trucks, and buses with a GVWR of 4,536 kg (10,000 lb) or less that were manufactured on or after September 1, 1993, and before September 1, 1998, and that, as originally manufactured, comply with FMVSS Nos. 202, 208, and 216;
| (d) All multipurpose passenger vehicles, trucks, and buses with a GVWR of 4,536 kg (10,000 lb) or less that were manufactured on or after September 1, 1998, and before September 1, 2002, and that, as originally manufactured, comply with FMVSS Nos. 202, 208, 214, and 216;
| (e) All multipurpose passenger vehicles, trucks, and buses with a GVWR of 4,536 kg (10,000 lb) or less that were manufactured on or after September 1, 2002, and before September 1, 2007, and that, as originally manufactured, comply with FMVSS Nos. 201, 202, 208, 214, and 216, and, insofar as it is applicable, with FMVSS No. 225;
| (f) All multipurpose passenger vehicles, trucks, and buses with a GVWR of 4,536 kg (10,000 lb) or less manufactured on or after September 1, 2007 and before September 1, 2008, that, as originally manufactured, comply with FMVSS Nos. 110, 118, 201, 202, 208, 213, 214, and 216, and insofar as they are applicable, with FMVSS Nos. 138 and 225;
| (g) All multipurpose passenger vehicles, trucks, and buses with a GVWR of 4,536 kg (10,000 lb) or less manufactured on or after September 1, 2008 and before September 1, 2011, that, as originally manufactured, comply with FMVSS Nos. 110, 118, 201, 202a, 206, 208, 213, 214, and 216, and insofar as they are applicable, with FMVSS Nos. 138 and 225;
| (h) All multipurpose passenger vehicles, trucks, and buses with a GVWR of 4,536 kg (10,000 lb) or less manufactured on or after September 1, 2011 and before September 1, 2012, that, as originally manufactured, comply with FMVSS Nos. 110, 118, 126, 201, 202a, 206, 208, 213, 214, and 216, and insofar as they are applicable, with FMVSS Nos. 138 and 225.
VSA-82 | All multipurpose passenger vehicles, trucks, and buses with a GVWR greater than 4,536 kg (10,000 lb) that are less than 25 years old.
VSA-83 | All trailers and motorcycles less than 25 years old.

Vehicles Manufactured for Other Than the Canadian Market
Make | Model type(s) | Body | Model year(s) | VSP | VSA | VCP
Acura | Legend |  | 1988 | 51 |  |
Acura | Legend |  | 1988 | 51 |  |
Acura | Legend |  | 1989 | 77 |  |
Acura | Legend |  | 1990-1992 | 305 |  |
AL-Spaw | EMA Mobile Stage Trailer |  | 2009 |  |  | 42
Alfa Romeo | 164 |  | 1989 | 196 |  |
Alfa Romeo | 164 |  | 1991 | 76 |  |
Alfa Romeo | 164 |  | 1994 | 156 |  |
Alfa Romeo | Spider |  | 1987 | 70 |  |
Alfa Romeo | Spyder |  | 1992 | 503 |  |
Alpina | B12 5.0 | Sedan | 1988-1994 |  |  | 41
Aston Martin | Vanquish |  | 2002-2004 | 430 |  |
Audi | 80 |  | 1988-1989 | 223 |  |
Audi | 100 |  | 1989 | 93 |  |
Audi | 100 |  | 1993 | 244 |  |
Audi | 100 |  | 1990-1992 | 317 |  |
Audi | A4 |  | 1996-2000 | 352 |  |
Audi | A4, RS4, S4 | 8D | 2000-2001 | 400 |  |
Audi | A6 |  | 1998-1999 | 332 |  |
Audi | A8 |  | 2000 | 424 |  |
Audi | A8 |  | 1997-2000 | 337 |  |
Audi | A8 Avant Quattro |  | 1996 | 238 |  |
Audi | RS6 & RS6 Avant |  | 2003 | 443 |  |
Audi | S6 |  | 1996 | 428 |  |
Audi | S8 |  | 2000 | 424 |  |
Audi | TT |  | 2000-2001 | 364 |  |
Bentley | Arnage (manufactured 1/1/01-12/31/01) |  | 2001 | 473 |  |
Bentley | Azure (LHD & RHD) |  | 1998 | 485 |  |
Bimota (MC) | DB4 |  | 2000 | 397 |  |
Bimota (MC) | SB8 |  | 1999-2000 | 397 |  |
Bimota (MC) | SB6 |  | 1994-1999 | 523 |  |
BMW | 316 |  | 1986 | 25 |  |
BMW | 3 Series |  | 1998 | 462 |  |
BMW | 3 Series |  | 1999 | 379 |  |
BMW | 3 Series |  | 2000 | 356 |  |
BMW | 3 Series |  | 2001 | 379 |  |
BMW | 3 Series |  | 1995-1997 | 248 |  |
BMW | 3 Series |  | 2003-2004 | 487 |  |
BMW | 318i, 318iA |  | 1986 |  | 23 |
BMW | 318i, 318iA |  | 1987-1989 |  | 23 |
BMW | 320i |  | 1990-1991 | 283 |  |
BMW | 325, 325i, 325iA, 325E |  | 1986 |  | 30 |
BMW | 325e, 325eA |  | 1986-1987 |  | 24 |
BMW | 325i |  | 1991 | 96 |  |
BMW | 325i |  | 1992-1996 | 197 |  |
BMW | 325i, 325iA |  | 1987-1989 |  | 30 |
BMW | 325iS, 325iSA |  | 1987-1989 |  | 31 |
BMW | 325iX |  | 1990 | 205 |  |
BMW | 325iX, 325iXA |  | 1988-1989 |  | 33 |
BMW | 5 Series |  | 2000 | 345 |  |
BMW | 5 Series |  | 1990-1995 | 194 |  |
BMW | 5 Series |  | 1995-1997 | 249 |  |
BMW | 5 Series |  | 1998-1999 | 314 |  |
BMW | 5 Series |  | 2000-2002 | 414 |  |
BMW | 5 Series |  | 2003-2004 | 450 |  |
BMW | 518i |  | 1986 | 4 |  |
BMW | 520iA |  | 1989 | 9 |  |
BMW | 524tdA |  | 1986 |  | 26 |
BMW | 525i |  | 1989 | 5 |  |
BMW | 528e, 528eA |  | 1986-1988 |  | 21 |
BMW | 535i, 535iA |  | 1986-1989 |  | 25 |
BMW | 635CSi, 635CSiA |  | 1986-1989 |  | 27 |
BMW | 7 Series |  | 1992 | 232 |  |
BMW | 7 Series |  | 1990-1991 | 299 |  |
BMW | 7 Series |  | 1993-1994 | 299 |  |
BMW | 7 Series |  | 1995-1999 | 313 |  |
BMW | 7 Series |  | 1999-2001 | 366 |  |
BMW | 728i |  | 1986 | 14 |  |
BMW | 730iA |  | 1988 | 6 |  |
BMW | 735i, 735iA |  | 1986-1989 |  | 28 |
BMW | 745i |  | 1986 |  | 73 |
BMW | 8 Series |  | 1991-1995 | 361 |  |
BMW | 850 Series |  | 1997 | 396 |  |
BMW | 850i |  | 1990 | 10 |  |
BMW | All other passenger car models except those in the M1 and Z1 series. |  | 1986-1989 |  | 78 |
BMW | L7 |  | 1986-1987 |  | 29 |
BMW | M3 |  | 1988-1989 |  | 35 |
BMW | M3 (manufactured prior to 9/1/06) |  | 2006 | 520 |  |
BMW | M5 |  | 1988 |  | 34 |
BMW | M6 |  | 1987-1988 |  | 32 |
BMW | X5 (manufactured 1/1/03-12/31/04) |  | 2003-2004 | 459 |  |
BMW | Z3 |  | 1996-1998 | 260 |  |
BMW | Z3 (European market) |  | 1999 | 483 |  |
BMW | Z8 |  | 2002 | 406 |  |
BMW | Z8 |  | 2000-2001 | 350 |  |
BMW (MC) | C1 |  | 2000-2003 |  |  | 40
BMW (MC) | K1 |  | 1990-1993 | 228 |  |
BMW (MC) | K100 |  | 1986-1992 | 285 |  |
BMW (MC) | K1100, K1200 |  | 1993-1998 | 303 |  |
BMW (MC) | K75 |  | 1996 |  |  | 36
BMW (MC) | K75S |  | 1987-1995 | 229 |  |
BMW (MC) | R1100 |  | 1994-1997 | 231 |  |
BMW (MC) | R1100 |  | 1998-2001 | 368 |  |
BMW (MC) | R1100RS |  | 1994 | 177 |  |
BMW (MC) | R1150GS |  | 2000 | 453 |  |
BMW (MC) | R1200C |  | 1998-2001 | 359 |  |
BMW (MC) | R80, R100 |  | 1986-1995 | 295 |  |
Buell (MC) | All Models |  | 1995-2002 | 399 |  |
Cadillac | DeVille |  | 1994-1999 | 300 |  |
Cadillac | DeVille (manufactured 8/1/99-12/31/00) |  | 2000 | 448 |  |
Cadillac | Seville |  | 1991 | 375 |  |
Cagiva (MC) | Gran Canyon 900 |  | 1999 | 444 |  |
Carrocerias | Cimarron trailer |  | 2006-2007 |  |  | 37
Chevrolet | 400SS |  | 1995 | 150 |  |
Chevrolet | Astro Van |  | 1997 | 298 |  |
Chevrolet | Blazer |  | 1986 | 405 |  |
Chevrolet | Blazer (plant code of “K” or “2” in the 11th position of the VIN) |  | 1997 | 349 |  |
Chevrolet | Blazer (plant code of “K” or “2” in the 11th position of the VIN) |  | 2001 | 461 |  |
Chevrolet | Camaro |  | 1999 | 435 |  |
Chevrolet | Cavalier |  | 1997 | 369 |  |
Chevrolet | Corvette |  | 1992 | 365 |  |
Chevrolet | Corvette | Coupe | 1999 | 419 |  |
Chevrolet | Suburban |  | 1989-1991 | 242 |  |
Chevrolet | Tahoe |  | 2000 | 504 |  |
Chevrolet | Tahoe |  | 2001 | 501 |  |
Chevrolet | Trailblazer (manufactured prior to 9/1/07) originally sold in the Kuwaiti market |  | 2007 | 514 |  |
Chrysler | Daytona |  | 1992 | 344 |  |
Chrysler | Grand Voyager |  | 1998 | 373 |  |
Chrysler | LHS (Mexican market) |  | 1996 | 276 |  |
Chrysler | Shadow (Middle Eastern market) |  | 1989 | 216 |  |
Chrysler | Town and Country |  | 1993 | 273 |  |
Citroen | XM |  | 1990-1992 |  |  | 1
Dodge | Ram |  | 1994-1995 | 135 |  |
Ducati (MC) | 748 |  | 1999-2003 | 421 |  |
Ducati (MC) | 851 |  | 1988 | 498 |  |
Ducati (MC) | 888 |  | 1993 | 500 |  |
Ducati (MC) | 900 |  | 2001 | 452 |  |
Ducati (MC) | 916 |  | 1999-2003 | 421 |  |
Ducati (MC) | 600SS |  | 1992-1996 | 241 |  |
Ducati (MC) | 748 Biposto |  | 1996-1997 | 220 |  |
Ducati (MC) | 900SS |  | 1991-1996 | 201 |  |
Ducati (MC) | 996 Biposto |  | 1999-2001 | 475 |  |
Ducati (MC) | 996R |  | 2001-2002 | 398 |  |
Ducati (MC) | MH900E |  | 2001-2002 | 524 |  |
Ducati (MC) | Monster 600 |  | 2001 | 407 |  |
Ducati (MC) | ST4S |  | 1999-2005 | 474 |  |
Eagle | Vision |  | 1994 | 323 |  |
Ferrari | 360 |  | 2001 | 376 |  |
Ferrari | 456 |  | 1995 | 256 |  |
Ferrari | 550 |  | 2001 | 377 |  |
Ferrari | 575 |  | 2002-2003 | 415 |  |
Ferrari | 575 |  | 2004-2005 | 507 |  |
Ferrari | 208, 208 Turbo | all models | 1986-1988 |  | 76 |
Ferrari | 328 | all models | 1988-1989 |  | 37 |
Ferrari | 328 GTS |  | 1986-1987 |  | 37 |
Ferrari | 348 TB |  | 1992 | 86 |  |
Ferrari | 348 TS |  | 1992 | 161 |  |
Ferrari | 360 (manufactured after 9/31/02) |  | 2002 | 433 |  |
Ferrari | 360 (manufactured before 9/1/02) |  | 2002 | 402 |  |
Ferrari | 360 Modena |  | 1999-2000 | 327 |  |
Ferrari | 360 Series |  | 2004 | 446 |  |
Ferrari | 360 | Spider & Coupe | 2003 | 410 |  |
Ferrari | 456 GT & GTA |  | 1999 | 445 |  |
Ferrari | 456 GT & GTA |  | 1997-1998 | 408 |  |
Ferrari | 512 TR |  | 1993 | 173 |  |
Ferrari | 550 Marinello |  | 1997-1999 | 292 |  |
Ferrari | 599 (manufactured prior to 9/1/06) |  | 2006 | 518 |  |
Ferrari | Enzo |  | 2003-2004 | 436 |  |
Ferrari | F355 |  | 1995 | 259 |  |
Ferrari | F355 |  | 1999 | 391 |  |
Ferrari | F355 |  | 1996-1998 | 355 |  |
Ferrari | F430 (manufactured prior to 9/1/06) |  | 2005-2006 | 479 |  |
Ferrari | F50 |  | 1995 | 226 |  |
Ferrari | Mondial (all models) |  | 1986-1989 |  | 74 |
Ferrari | Testarossa |  | 1989 |  | 39 |
Ferrari | Testarossa |  | 1987-1988 |  | 39 |
Ford | Bronco (manufactured in Venezuela) |  | 1995-1996 | 265 |  |
Ford | Escort (Nicaraguan market) |  | 1996 | 322 |  |
Ford | Escort RS Cosworth |  | 1994-1995 |  |  | 9
Ford | Explorer (manufactured in Venezuela) |  | 1991-1998 | 268 |  |
Ford | F150 |  | 2000 | 425 |  |
Ford | Mustang |  | 1993 | 367 |  |
Ford | Mustang |  | 1997 | 471 |  |
Ford | Windstar |  | 1995-1998 | 250 |  |
Freightliner | FLD12064ST |  | 1991-1996 | 179 |  |
Freightliner | FTLD112064SD |  | 1991-1996 | 178 |  |
GMC | Suburban |  | 1992-1994 | 134 |  |
Harley Davidson (MC) | FX, FL, XL Series |  | 1998 | 253 |  |
Harley Davidson (MC) | FX, FL, XL Series |  | 1999 | 281 |  |
Harley Davidson (MC) | FX, FL, XL Series |  | 2000 | 321 |  |
Harley Davidson (MC) | FX, FL, XL Series |  | 2001 | 362 |  |
Harley Davidson (MC) | FX, FL, XL Series |  | 2002 | 372 |  |
Harley Davidson (MC) | FX, FL, XL Series |  | 2003 | 393 |  |
Harley Davidson (MC) | FX, FL, XL Series |  | 2004 | 422 |  |
Harley Davidson (MC) | FX, FL, XL Series |  | 2005 | 472 |  |
Harley Davidson (MC) | FX, FL, XL Series |  | 2006 | 491 |  |
Harley Davidson (MC) | FX, FL, XL Series |  | 1986-1997 | 202 |  |
Harley Davidson (MC) | FX, FL, XL & VR Series |  | 2007 | 506 |  |
Harley Davidson (MC) | FXSTC Soft Tail Custom |  | 2007 | 499 |  |
Harley Davidson (MC) | FX, FL, XL & VR Series |  | 2008 | 517 |  |
Harley Davidson (MC) | FX, FL, XL & VR Series |  | 2009 | 522 |  |
Harley Davidson (MC) | VRSCA |  | 2002 | 374 |  |
Harley Davidson (MC) | VRSCA |  | 2003 | 394 |  |
Harley Davidson (MC) | VRSCA |  | 2004 | 422 |  |
Hatty | 45 ft double axle trailer |  | 1999-2000 |  |  | 38
Heku | 750 KG boat trailer |  | 2005 |  |  | 33
Hobby | Exclusive 650 KMFE Trailer |  | 2002-2003 |  |  | 29
Honda | Accord |  | 1991 | 280 |  |
Honda | Accord |  | 1992-1999 | 319 |  |
Honda | Accord (RHD) | Sedan & Wagon | 1994-1997 | 451 |  |
Honda | Civic DX | Hatchback | 1989 | 128 |  |
Honda | CRV |  | 2002 | 447 |  |
Honda | CR-V |  | 2005 | 489 |  |
Honda | Prelude |  | 1989 | 191 |  |
Honda | Prelude |  | 1994-1997 | 309 |  |
Honda (MC) | CB 750 (CB750F2T) |  | 1996 | 440 |  |
Honda (MC) | CB1000F |  | 1988 | 106 |  |
Honda (MC) | CBR250 |  | 1989-1994 |  |  | 22
Honda (MC) | CMX250C |  | 1986-1987 | 348 |  |
Honda (MC) | CP450SC |  | 1986 | 174 |  |
Honda (MC) | RVF 400 |  | 1994-2000 | 358 |  |
Honda (MC) | VF750 |  | 1994-1998 | 290 |  |
Honda (MC) | VFR 400 |  | 1994-2000 | 358 |  |
Honda (MC) | VFR 400, RVF 400 |  | 1989-1993 |  |  | 24
Honda (MC) | VFR750 |  | 1990 | 34 |  |
Honda (MC) | VFR750 |  | 1991-1997 | 315 |  |
Honda (MC) | VFR800 |  | 1998-1999 | 315 |  |
Honda (MC) | VT600 |  | 1991-1998 | 294 |  |
Hyundai | Elantra |  | 1992-1995 | 269 |  |
Hyundai | XG350 |  | 2004 | 494 |  |
Jaguar | Sovereign |  | 1993 | 78 |  |
Jaguar | S-Type |  | 2000-2002 | 411 |  |
Jaguar | XJ6 |  | 1987 | 47 |  |
Jaguar | XJ6 |  | 1986 |  | 41 |
Jaguar | XJ6 Sovereign |  | 1988 | 215 |  |
Jaguar | XJS |  | 1991 | 175 |  |
Jaguar | XJS |  | 1992 | 129 |  |
Jaguar | XJS |  | 1986-1987 |  | 40 |
Jaguar | XJS |  | 1994-1996 | 195 |  |
Jaguar | XJS, XJ6 |  | 1988-1990 | 336 |  |
Jaguar | XK-8 |  | 1998 | 330 |  |
Jeep | Cherokee |  | 1993 | 254 |  |
Jeep | Cherokee (European market) |  | 1991 | 211 |  |
Jeep | Cherokee (LHD & RHD) |  | 1994 | 493 |  |
Jeep | Cherokee (LHD & RHD) |  | 1995 | 180 |  |
Jeep | Cherokee (LHD & RHD) |  | 1996 | 493 |  |
Jeep | Cherokee (LHD & RHD) |  | 1997-1998 | 516 |  |
Jeep | Cherokee (LHD & RHD) |  | 1997-2001 | 515 |  |
Jeep | Cherokee (Venezuelan market) |  | 1992 | 164 |  |
Jeep | Grand Cherokee |  | 1994 | 404 |  |
Jeep | Grand Cherokee |  | 1997 | 431 |  |
Jeep | Grand Cherokee |  | 2001 | 382 |  |
Jeep | Grand Cherokee (LHD—Japanese market) |  | 1997 | 389 |  |
Jeep | Liberty |  | 2002 | 466 |  |
Jeep | Liberty |  | 2005 | 505 |  |
Jeep | Liberty (Mexican market) |  | 2004 | 457 |  |
Jeep | Wrangler |  | 1993 | 217 |  |
Jeep | Wrangler |  | 1995 | 255 |  |
Jeep | Wrangler |  | 1998 | 341 |  |
Kawasaki (MC) | EL250 |  | 1992-1994 | 233 |  |
Kawasaki (MC) | VN1500-P1/P2 series |  | 2003 | 492 |  |
Kawasaki (MC) | ZX1000-B1 |  | 1988 | 182 |  |
Kawasaki (MC) | ZX400 |  | 1987-1997 | 222 |  |
Kawasaki (MC) | ZX6, ZX7, ZX9, ZX10, ZX11 |  | 1987-1999 | 312 |  |
Kawasaki (MC) | ZX600 |  | 1986-1998 | 288 |  |
Kawasaki (MC) | ZZR1100 |  | 1993-1998 | 247 |  |
Ken-Mex | T800 |  | 1990-1996 | 187 |  |
Kenworth | T800 |  | 1992 | 115 |  |
Komet | Standard, Classic & Eurolite trailer |  | 2000-2005 | 477 |  |
KTM (MC) | Duke II |  | 1995-2000 | 363 |  |
Lamborghini | Diablo (except 1997 Coupe) |  | 1996-1997 | 416 |  |
Lamborghini | Diablo | Coupe | 1997 |  |  | 26
Lamborghini | Gallardo (manufactured 1/1/04-12/31/04) |  | 2004 | 458 |  |
Lamborghini | Gallardo (manufactured 1/1/06-8/31/06) |  | 2006 | 508 |  |
Lamborghini | Murcielago | Roadster | 2005 | 476 |  |
Land Rover | Defender 110 |  | 1993 | 212 |  |
Land Rover | Defender 90 | VIN & Body Limited | 1994-1995 | 512 |  |
Land Rover | Defender 90 (manufactured before 9/1/97) and VIN “SALDV224*VA” or “SALDV324*VA“ |  | 1997 | 432 |  |
Land Rover | Discovery |  | 1994-1998 | 338 |  |
Land Rover | Discovery (II) |  | 2000 | 437 |  |
Land Rover | Range Rover |  | 2004 | 509 |  |
Lexus | GS300 |  | 1998 | 460 |  |
Lexus | GS300 |  | 1993-1996 | 293 |  |
Lexus | RX300 |  | 1998-1999 | 307 |  |
Lexus | SC300 |  | 1991-1996 | 225 |  |
Lexus | SC400 |  | 1991-1996 | 225 |  |
Lincoln | Mark VII |  | 1992 | 144 |  |
Magni (MC) | Australia, Sfida |  | 1996-1999 | 264 |  |
Mazda | MPV |  | 2000 | 413 |  |
Mazda | MX-5 Miata |  | 1990-1993 | 184 |  |
Mazda | RX-7 |  | 1986 | 199 |  |
Mazda | RX-7 |  | 1987-1995 | 279 |  |
Mazda | Xedos 9 |  | 1995-2000 | 351 |  |
Mercedes Benz | 190 D | 201.126 | 1986-1989 |  | 54 |
Mercedes Benz | 190 D (2.2) | 201.122 | 1986-1989 |  | 54 |
Mercedes Benz | 190 E | 201.029 | 1986 |  | 54 |
Mercedes Benz | 190 E | 201.028 | 1990 | 22 |  |
Mercedes Benz | 190 E | 201.036 | 1990 | 104 |  |
Mercedes Benz | 190 E | 201.024 | 1991 | 45 |  |
Mercedes Benz | 190 E | 201.028 | 1992 | 71 |  |
Mercedes Benz | 190 E | 201.018 | 1992 | 126 |  |
Mercedes Benz | 190 E |  | 1993 | 454 |  |
Mercedes Benz | 190 E | 201.028 | 1986-1989 |  | 54 |
Mercedes Benz | 190 E (2.3) | 201.024 | 1986-1989 |  | 54 |
Mercedes Benz | 190 E (2.6) | 201.029 | 1987-1989 |  | 54 |
Mercedes Benz | 190 E (2.6) 16 | 201.034 | 1986-1989 |  | 54 |
Mercedes Benz | 200 D | 124.120 | 1986 | 17 |  |
Mercedes Benz | 200 E | 124.021 | 1989 | 11 |  |
Mercedes Benz | 200 E | 124.012 | 1991 | 109 |  |
Mercedes Benz | 200 E | 124.019 | 1993 | 75 |  |
Mercedes Benz | 200 TE | 124.081 | 1989 | 3 |  |
Mercedes Benz | 220 E |  | 1993 | 168 |  |
Mercedes Benz | 220 TE | Station Wagon | 1993-1996 | 167 |  |
Mercedes Benz | 230 CE | 124.043 | 1991 | 84 |  |
Mercedes Benz | 230 CE | 123.043 | 1992 | 203 |  |
Mercedes Benz | 230 E | 124.023 | 1988 | 1 |  |
Mercedes Benz | 230 E | 124.023 | 1989 | 20 |  |
Mercedes Benz | 230 E | 124.023 | 1990 | 19 |  |
Mercedes Benz | 230 E | 124.023 | 1991 | 74 |  |
Mercedes Benz | 230 E | 124.023 | 1993 | 127 |  |
Mercedes Benz | 230 E | 124.023 | 1986-1987 |  | 55 |
Mercedes Benz | 230 TE | 124.083 | 1989 | 2 |  |
Mercedes Benz | 250 D |  | 1992 | 172 |  |
Mercedes Benz | 250 E |  | 1990-1993 | 245 |  |
Mercedes Benz | 260 E | 124.026 | 1986 |  | 55 |
Mercedes Benz | 260 E | 124.026 | 1992 | 105 |  |
Mercedes Benz | 260 E | 124.026 | 1987-1989 |  | 55 |
Mercedes Benz | 260 SE | 126.020 | 1986 | 18 |  |
Mercedes Benz | 260 SE | 126.020 | 1989 | 28 |  |
Mercedes Benz | 280 E |  | 1993 | 166 |  |
Mercedes Benz | 280 SE | 116.024 | 1986-1988 |  | 51 |
Mercedes Benz | 300 CE | 124.051 | 1990 | 64 |  |
Mercedes Benz | 300 CE | 124.051 | 1991 | 83 |  |
Mercedes Benz | 300 CE | 124.050 | 1992 | 117 |  |
Mercedes Benz | 300 CE | 124.061 | 1993 | 94 |  |
Mercedes Benz | 300 CE | 124.050 | 1988-1989 |  | 55 |
Mercedes Benz | 300 D | 124.130 | 1986 |  | 55 |
Mercedes Benz | 300 D Turbo | 124.193 | 1986 |  | 55 |
Mercedes Benz | 300 D Turbo | 124.193 | 1987-1989 |  | 55 |
Mercedes Benz | 300 DT | 124.133 | 1986-1989 |  | 55 |
Mercedes Benz | 300 E | 124.031 | 1992 | 114 |  |
Mercedes Benz | 300 E | 124.030 | 1986-1989 |  | 55 |
Mercedes Benz | 300 E 4-Matic |  | 1990-1993 | 192 |  |
Mercedes Benz | 300 SD | 126.120 | 1986-1989 |  | 53 |
Mercedes Benz | 300 SE | 126.024 | 1990 | 68 |  |
Mercedes Benz | 300 SE | 126.024 | 1986-1987 |  | 53 |
Mercedes Benz | 300 SE | 126.024 | 1988-1989 |  | 53 |
Mercedes Benz | 300 SEL | 126.025 | 1986 |  | 53 |
Mercedes Benz | 300 SEL | 126.025 | 1987 |  | 53 |
Mercedes Benz | 300 SEL | 126.025 | 1990 | 21 |  |
Mercedes Benz | 300 SEL | 126.025 | 1988-1989 |  | 53 |
Mercedes Benz | 300 SL | 107.041 | 1989 | 7 |  |
Mercedes Benz | 300 SL | 129.006 | 1992 | 54 |  |
Mercedes Benz | 300 SL | 107.041 | 1986-1988 |  | 44 |
Mercedes Benz | 300 TE | 124.090 | 1990 | 40 |  |
Mercedes Benz | 300 TE |  | 1992 | 193 |  |
Mercedes Benz | 300 TE | 124.090 | 1986-1989 |  | 55 |
Mercedes Benz | 320 CE |  | 1993 | 310 |  |
Mercedes Benz | 320 SL |  | 1992-1993 | 142 |  |
Mercedes Benz | 380 SE | 126.043 | 1986-1989 |  | 53 |
Mercedes Benz | 380 SE | 126.032 | 1986-1989 |  | 53 |
Mercedes Benz | 380 SEL | 126.033 | 1986-1989 |  | 53 |
Mercedes Benz | 380 SL | 107.045 | 1986-1989 |  | 44 |
Mercedes Benz | 380 SLC | 107.025 | 1986-1989 |  | 44 |
Mercedes Benz | 400 SE |  | 1992-1994 | 296 |  |
Mercedes Benz | 420 E |  | 1993 | 169 |  |
Mercedes Benz | 420 SE | 126.034 | 1986 |  | 53 |
Mercedes Benz | 420 SE | 126.034 | 1987-1989 |  | 53 |
Mercedes Benz | 420 SE |  | 1990-1991 | 230 |  |
Mercedes Benz | 420 SEC |  | 1990 | 209 |  |
Mercedes Benz | 420 SEL | 126.035 | 1990 | 48 |  |
Mercedes Benz | 420 SEL | 126.035 | 1986-1989 |  | 53 |
Mercedes Benz | 420 SL | 107.047 | 1986 |  | 44 |
Mercedes Benz | 450 SEL | 116.033 | 1986-1988 |  | 51 |
Mercedes Benz | 450 SEL (6.9) | 116.036 | 1986-1988 |  | 51 |
Mercedes Benz | 450 SL | 107.044 | 1986-1989 |  | 44 |
Mercedes Benz | 450 SLC | 107.024 | 1986-1989 |  | 44 |
Mercedes Benz | 500 E | 124.036 | 1991 | 56 |  |
Mercedes Benz | 500 SE | 126.036 | 1988 | 35 |  |
Mercedes Benz | 500 SE |  | 1990 | 154 |  |
Mercedes Benz | 500 SE | 140.050 | 1991 | 26 |  |
Mercedes Benz | 500 SE | 126.036 | 1986 |  | 53 |
Mercedes Benz | 500 SEC | 126.044 | 1990 | 66 |  |
Mercedes Benz | 500 SEC | 126.044 | 1986-1989 |  | 53 |
Mercedes Benz | 500 SEL |  | 1990 | 153 |  |
Mercedes Benz | 500 SEL | 126.037 | 1991 | 63 |  |
Mercedes Benz | 500 SEL | 126.037 | 1986-1989 |  | 53 |
Mercedes Benz | 500 SL | 129.066 | 1989 | 23 |  |
Mercedes Benz | 500 SL | 126.066 | 1991 | 33 |  |
Mercedes Benz | 500 SL | 129.006 | 1992 | 60 |  |
Mercedes Benz | 500 SL | 107.046 | 1986-1989 |  | 44 |
Mercedes Benz | 560 SEC | 126.045 | 1990 | 141 |  |
Mercedes Benz | 560 SEC |  | 1991 | 333 |  |
Mercedes Benz | 560 SEC | 126.045 | 1986-1989 |  | 53 |
Mercedes Benz | 560 SEL | 126.039 | 1990 | 89 |  |
Mercedes Benz | 560 SEL | 140 | 1991 | 469 |  |
Mercedes Benz | 560 SEL | 126.039 | 1986-1989 |  | 53 |
Mercedes Benz | 560 SL | 107.048 | 1986-1989 |  | 44 |
Mercedes Benz | 600 SEC | Coupe | 1993 | 185 |  |
Mercedes Benz | 600 SEL | 140.057 | 1993-1998 | 271 |  |
Mercedes Benz | 600 SL | 129.076 | 1992 | 121 |  |
Mercedes Benz | All other passenger car models except Model ID 114 and 115 with sales designations “long,” “station wagon,” or “ambulance” |  | 1986-1989 |  | 77 |
Mercedes Benz | C 320 | 203 | 2001-2002 | 441 |  |
Mercedes Benz | C Class |  | 1994-1999 | 331 |  |
Mercedes Benz | C Class | 203 | 2000-2001 | 456 |  |
Mercedes Benz | C Class | 221 | 2003-2006 | 521 |  |
Mercedes Benz | CL 500 |  | 1998 | 277 |  |
Mercedes Benz | CL 500 |  | 1999-2001 | 370 |  |
Mercedes Benz | CL 600 |  | 1999-2001 | 370 |  |
Mercedes Benz | CLK 320 |  | 1998 | 357 |  |
Mercedes Benz | CLK Class |  | 1999-2001 | 380 |  |
Mercedes Benz | CLK-Class | 209 | 2002-2005 | 478 |  |
Mercedes Benz | E 200 |  | 1994 | 207 |  |
Mercedes Benz | E 200 |  | 1995-1998 | 278 |  |
Mercedes Benz | E 220 |  | 1994-1996 | 168 |  |
Mercedes Benz | E 250 |  | 1994-1995 | 245 |  |
Mercedes Benz | E 280 |  | 1994-1996 | 166 |  |
Mercedes Benz | E 320 |  | 1994-1998 | 240 |  |
Mercedes Benz | E 320 | 211 | 2002-2003 | 418 |  |
Mercedes Benz | E 320 | Station Wagon | 1994-1999 | 318 |  |
Mercedes Benz | E 420 |  | 1994-1996 | 169 |  |
Mercedes Benz | E 500 |  | 1994 | 163 |  |
Mercedes Benz | E 500 |  | 1995-1997 | 304 |  |
Mercedes Benz | E Class | W210 | 1996-2002 | 401 |  |
Mercedes Benz | E Class | 211 | 2003-2004 | 429 |  |
Mercedes Benz | E Series |  | 1991-1995 | 354 |  |
Mercedes Benz | G-Wagon | 463 | 1996 |  |  | 11
Mercedes Benz | G-Wagon | 463 | 1997 |  |  | 15
Mercedes Benz | G-Wagon | 463 | 1998 |  |  | 16
Mercedes Benz | G-Wagon | 463 | 1999-2000 |  |  | 18
Mercedes Benz | G-Wagon 300 | 463.228 | 1993 |  |  | 3
Mercedes Benz | G-Wagon 300 | 463.228 | 1994 |  |  | 5
Mercedes Benz | G-Wagon 300 | 463.228 | 1990-1992 |  |  | 5
Mercedes Benz | G-Wagon 320 LWB | 463 | 1995 |  |  | 6
Mercedes Benz | G-Wagon 5 DR LWB | 463 | 2001 |  |  | 21
Mercedes Benz | G-Wagon 5 DR LWB | 463 | 2002 | 392 |  |
Mercedes Benz | G-Wagon 5 DR LWB |  | 2006-2007 | 527 |  |
Mercedes Benz | G-Wagon LWB V-8 | 463 | 1992-1996 |  |  | 13
Mercedes Benz | G-Wagon SWB | 463 | 2005 |  |  | 31
Mercedes Benz | G-Wagon SWB | 463 | 1990-1996 |  |  | 14
Mercedes Benz | G-Wagon SWB Cabriolet & 3DR | 463 | 2004 |  |  | 28
Mercedes Benz | G-Wagon SWB Cabriolet & 3DR | 463 | 2001-2003 |  |  | 25
Mercedes Benz | G-Wagon SWB Cabriolet & 3DR (manufactured before 9/1/06) | 463 | 2006 |  |  | 35
Mercedes Benz | Maybach |  | 2004 | 486 |  |
Mercedes Benz | S 280 | 140.028 | 1994 | 85 |  |
Mercedes Benz | S 320 |  | 1994-1998 | 236 |  |
Mercedes Benz | S 420 |  | 1994-1997 | 267 |  |
Mercedes Benz | S 500 |  | 1994-1997 | 235 |  |
Mercedes Benz | S 500 |  | 2000-2001 | 371 |  |
Mercedes Benz | S 600 |  | 1995-1999 | 297 |  |
Mercedes Benz | S 600 |  | 2000-2001 | 371 |  |
Mercedes Benz | S 600 | Coupe | 1994 | 185 |  |
Mercedes Benz | S 600L |  | 1994 | 214 |  |
Mercedes Benz | S Class |  | 1993 | 395 |  |
Mercedes Benz | S Class | 140 | 1991-1994 | 423 |  |
Mercedes Benz | S Class |  | 1995-1998 | 342 |  |
Mercedes Benz | S Class |  | 1998-1999 | 325 |  |
Mercedes Benz | S Class | W220 | 1999-2002 | 387 |  |
Mercedes Benz | S Class | 220 | 2002-2004 | 442 |  |
Mercedes Benz | S Class (manufactured before 9/1/06) |  | 2005-2006 | 525 |  |
Mercedes Benz | SE Class |  | 1992-1994 | 343 |  |
Mercedes Benz | SEL Class | 140 | 1992-1994 | 343 |  |
Mercedes Benz | SL Class |  | 1993-1996 | 329 |  |
Mercedes Benz | SL Class | W129 | 1997-2000 | 386 |  |
Mercedes Benz | SL Class | R230 | 2001-2002 |  |  | 19
Mercedes Benz | SL-Class (European market) | 230 | 2003-2005 | 470 |  |
Mercedes Benz | SLK |  | 1997-1998 | 257 |  |
Mercedes Benz | SLK |  | 2000-2001 | 381 |  |
Mercedes Benz | SLK Class (manufactured between 8/31/04 and 8/31/06) | 171 | 2005-2006 | 511 |  |
Mercedes Benz (truck) | Sprinter |  | 2001-2005 | 468 |  |
Mini | Cooper (European market) | Convertible | 2005 | 482 |  |
Mitsubishi | Galant Super Salon |  | 1989 | 13 |  |
Mitsubishi | Galant VX |  | 1988 | 8 |  |
Moto Guzzi (MC) | California |  | 2000-2001 | 495 |  |
Moto Guzzi (MC) | California EV |  | 2002 | 403 |  |
Moto Guzzi (MC) | Daytona |  | 1993 | 118 |  |
Moto Guzzi (MC) | Daytona RS |  | 1996-1999 | 264 |  |
MV Agusta (MC) | F4 |  | 2000 | 420 |  |
Nissan | 240SX |  | 1988 | 162 |  |
Nissan | GTS & GTR(RHD) a.k.a. “Skyline” manufactured 1/96-6/98 | R33 | 1996-1998 |  |  | 32
Nissan | Maxima |  | 1989 | 138 |  |
Nissan | Pathfinder |  | 2002 | 412 |  |
Nissan | Pathfinder |  | 1987-1995 | 316 |  |
Nissan | Stanza |  | 1987 | 139 |  |
Peugeot | 405 |  | 1989 | 65 |  |
Plymouth | Voyager |  | 1996 | 353 |  |
Pontiac | Firebird Trans Am |  | 1995 | 481 |  |
Pontiac (MPV) | Trans Sport |  | 1993 | 189 |  |
Porsche | 911 Series |  | 1991 | 526 |  |
Porsche | 911 |  | 1997-2000 | 346 |  |
Porsche | 928 |  | 1991-1996 | 266 |  |
Porsche | 928 |  | 1993-1998 | 272 |  |
Porsche | 911 Carrera | 996 | 2002-2004 | 439 |  |
Porsche | 911 (996) GT3 |  | 2004 | 438 |  |
Porsche | 911 C4 |  | 1990 | 29 |  |
Porsche | 911 Cabriolet |  | 1986-1989 |  | 56 |
Porsche | 911 Carrera |  | 1993 | 165 |  |
Porsche | 911 Carrera |  | 1994 | 103 |  |
Porsche | 911 Carrera |  | 1986-1989 |  | 56 |
Porsche | 911 Carrera |  | 1995-1996 | 165 |  |
Porsche | 911 Carrera 2 & Carrera 4 |  | 1992 | 52 |  |
Porsche | 911 Carrera Cabriolet (manufactured prior to 9/1/06) |  | 2005-2006 | 513 |  |
Porsche | 911 | Coupe | 1986-1989 |  | 56 |
Porsche | 911 Targa |  | 1986-1989 |  | 56 |
Porsche | 911 Turbo |  | 1992 | 125 |  |
Porsche | 911 Turbo |  | 2001 | 347 |  |
Porsche | 911 Turbo |  | 1986-1989 |  | 56 |
Porsche | 924 | Coupe | 1986-1989 |  | 59 |
Porsche | 924 S |  | 1987-1989 |  | 59 |
Porsche | 924 Turbo | Coupe | 1986-1989 |  | 59 |
Porsche | 928 | Coupe | 1986-1989 |  | 60 |
Porsche | 928 GT |  | 1986-1989 |  | 60 |
Porsche | 928 S | Coupe | 1986-1989 |  | 60 |
Porsche | 928 S4 |  | 1990 | 210 |  |
Porsche | 928 S4 |  | 1986-1989 |  | 60 |
Porsche | 944 | Coupe | 1986-1989 |  | 61 |
Porsche | 944 S | Cabriolet | 1990 | 97 |  |
Porsche | 944 S | Coupe | 1987-1989 |  | 61 |
Porsche | 944 S2 (2-door Hatchback) |  | 1990 | 152 |  |
Porsche | 944 Turbo | Coupe | 1986-1989 |  | 61 |
Porsche | 946 Turbo |  | 1994 | 116 |  |
Porsche | All other passenger car models except Model 959 |  | 1986-1989 |  | 79 |
Porsche | Boxster |  | 1997-2001 | 390 |  |
Porsche | Boxster (manufactured before 9/1/02) |  | 2002 | 390 |  |
Porsche | Carrera GT |  | 2004-2005 | 463 |  |
Porsche | Cayenne |  | 2003-2004 | 464 |  |
Porsche | Cayenne (manufactured prior to 9/1/06) |  | 2006 | 519 |  |
Porsche | GT2 |  | 2001 |  |  | 20
Porsche | GT2 |  | 2002 | 388 |  |
Rolls Royce | Bentley |  | 1987-1989 | 340 |  |
Rolls Royce | Bentley Brooklands |  | 1993 | 186 |  |
Rolls Royce | Bentley Continental R |  | 1990-1993 | 258 |  |
Rolls Royce | Bentley Turbo |  | 1986 | 53 |  |
Rolls Royce | Bentley Turbo R |  | 1995 | 243 |  |
Rolls Royce | Bentley Turbo R |  | 1992-1993 | 291 |  |
Rolls Royce | Phantom |  | 2004 | 455 |  |
Saab | 9.3 |  | 2003 | 426 |  |
Saab | 9000 |  | 1988 | 59 |  |
Saab | 9000 |  | 1994 | 334 |  |
Saab | 900 S |  | 1987-1989 | 270 |  |
Saab | 900 SE |  | 1995 | 213 |  |
Saab | 900 SE |  | 1990-1994 | 219 |  |
Saab | 900 SE |  | 1996-1997 | 219 |  |
Smart Car | Fortwo (incl. trim levels passion, pulse, & pure) | Coupe & Cabriolet | 2005 |  |  | 30
Smart Car | Fortwo (incl. trim levels passion, pulse, & pure) | Coupe & Cabriolet | 2002-2004 |  |  | 27
Smart Car | Fortwo (incl. trim levels passion, pulse, & pure) manufactured before 9/1/06 | Coupe & Cabriolet | 2006 |  |  | 34
Smart Car | Fortwo (incl. trim levels passion, pulse, & pure) manufactured before 9/1/06 | Coupe & Cabriolet | 2007 |  |  | 39
Subaru | Forester |  | 2006-2007 | 510 |  |
Suzuki (MC) | GSF 750 |  | 1996-1998 | 287 |  |
Suzuki (MC) | GSX1300R a.k.a. “Hayabusa“ |  | 1999-2006 | 484 |  |
Suzuki (MC) | GSX-R 1100 |  | 1986-1997 | 227 |  |
Suzuki (MC) | GSX-R 750 |  | 1986-1998 | 275 |  |
Suzuki (MC) | GSX-R 750 |  | 1999-2003 | 417 |  |
Toyota | 4-Runner |  | 1998 | 449 |  |
Toyota | Avalon |  | 1995-1998 | 308 |  |
Toyota | Camry |  | 1989 | 39 |  |
Toyota | Camry |  | 1987-1988 |  | 63 |
Toyota | Celica |  | 1987-1988 |  | 64 |
Toyota | Corolla |  | 1987-1988 |  | 65 |
Toyota | Land Cruiser |  | 1989 | 101 |  |
Toyota | Land Cruiser |  | 1986-1988 | 252 |  |
Toyota | Land Cruiser |  | 1990-1996 | 218 |  |
Toyota | MR2 |  | 1990-1991 | 324 |  |
Toyota | Previa |  | 1991-1992 | 326 |  |
Toyota | Previa |  | 1993-1997 | 302 |  |
Toyota | RAV4 |  | 1996 | 328 |  |
Toyota | RAV4 |  | 2005 | 480 |  |
Toyota | Van |  | 1987-1988 | 200 |  |
Triumph (MC) | Thunderbird |  | 1995-1999 | 311 |  |
Vespa (MC) | ET2, ET4 |  | 2001-2002 | 378 |  |
Vespa (MC) | LX and PX |  | 2004-2005 | 496 |  |
Volkswagen | Eurovan |  | 1993-1994 | 306 |  |
Volkswagen | Golf |  | 1987 | 159 |  |
Volkswagen | Golf |  | 1988 | 80 |  |
Volkswagen | Golf |  | 2005 | 502 |  |
Volkswagen | Golf III |  | 1993 | 92 |  |
Volkswagen | Golf Rallye |  | 1988 | 73 |  |
Volkswagen | Golf Rallye |  | 1989 | 467 |  |
Volkswagen | GTI (Canadian market) |  | 1991 | 149 |  |
Volkswagen | Jetta |  | 1994-1996 | 274 |  |
Volkswagen | Passat | Wagon & Sedan | 2004 | 488 |  |
Volkswagen | Passat 4-door | Sedan | 1992 | 148 |  |
Volkswagen | Scirocco |  | 1986 | 42 |  |
Volkswagen | Transporter |  | 1990 | 251 |  |
Volkswagen | Transporter |  | 1986-1987 | 490 |  |
Volkswagen | Transporter |  | 1988-1989 | 284 |  |
Volvo | 740 GL |  | 1992 | 137 |  |
Volvo | 740 | Sedan | 1988 | 87 |  |
Volvo | 850 Turbo |  | 1995-1998 | 286 |  |
Volvo | 940 GL |  | 1992 | 137 |  |
Volvo | 940 GL |  | 1993 | 95 |  |
Volvo | 945 GL | Wagon | 1994 | 132 |  |
Volvo | 960 | Sedan & Wagon | 1994 | 176 |  |
Volvo | C70 |  | 2000 | 434 |  |
Volvo | S70 |  | 1998-2000 | 335 |  |
Yamaha (MC) | Drag Star 1100 |  | 1999-2007 | 497 |  |
Yamaha (MC) | FJ1200 (4 CR) |  | 1991 | 113 |  |
Yamaha (MC) | FJR1300 |  | 2002 |  |  | 23
Yamaha (MC) | R1 |  | 2000 | 360 |  |
Yamaha (MC) | Virago |  | 1990-1998 | 301 |  |

Issued on: September 15, 2010.
Marilena Amoni,
Associate Administrator for the National Center for Statistics and Analysis.

[FR Doc. 2010-23471 Filed 9-20-10; 8:45 am]

BILLING CODE 4910-59-P